DEPARTMENT OF ENERGY

Federal Energy Regulatory Commission

[Project No. 2514-209]

Appalachian Power Company; Notice of Intent To Prepare an Environmental Assessment

On February 28, 2022, as supplemented,¹ Appalachian Power Company filed an application for a new major license for the 26.1-megawatt, two-development Byllesby-Buck Hydroelectric Project (Byllesby-Buck Project or project; FERC No. 2514). The Byllesby-Buck Project is located on the New River, near the city of Galax, in Carroll County, Virginia.

¹ The final license application filed February 28, 2022 was supplemented on February 28, 2023.

In accordance with the Commission's regulations, on October 13, 2023, Commission staff issued a notice that the project was ready for environmental analysis (REA notice). Based on the information in the record, including comments filed on the REA notice, staff does not anticipate that licensing the project would constitute a major Federal action significantly affecting the quality of the human environment. Therefore, staff intends to prepare an Environmental Assessment (EA) on the application to license the Byllesby-Buck Project.

The EA will be issued and circulated for review by all interested parties. All comments filed on the EA will be analyzed by staff and considered in the Commission's final licensing decision.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

The application will be processed according to the following schedule. Revisions to the schedule may be made as appropriate.

Milestone | Target date
Commission issues EA | June 2024.²
Comments on EA | July 2024.

Any questions regarding this notice may be directed to Jody Callihan at (202) 502-8278 or jody.callihan@ferc.gov.

² The Council on Environmental Quality's (CEQ) regulations under 40 CFR 1501.10(b)(1) (2022) require that EAs be completed within 1 year of the Federal action agency's decision to prepare an EA. See National Environmental Policy Act, 42 U.S.C. 4321 et seq., as amended by section 107(g)(1)(B)(iii) of the Fiscal Responsibility Act of 2023, Public Law 118-5, sec. 4336a, 137 Stat. 42.

Dated: December 22, 2023.
Debbie-Anne A. Reese,
Deputy Secretary.

[FR Doc. 2023-28758 Filed 12-28-23; 8:45 am]

BILLING CODE 6717-01-P